LEGAL SERVICES CORPORATION

Notice of Intent To Award—Grant Awards for the Delivery of Civil Legal Services to Eligible Low-Income Clients Beginning January 1, 2022

AGENCY: Legal Services Corporation.

ACTION: Announcement of the Legal Services Corporation's intent to make FY2022 Grant Awards.

SUMMARY: The Legal Services Corporation (LSC) hereby announces its intention to award grants to provide effective and efficient delivery of high-quality civil legal services to eligible low-income clients, starting January 1, 2022.

DATES: All comments and recommendations must be received on or before the close of business on December 8, 2021.

ADDRESSES: Grant Awards, Legal Services Corporation; 3333 K Street NW, Third Floor; Washington, DC 20007.

FOR FURTHER INFORMATION CONTACT: Judith Lee, Grants Program Manager, Office of Program Performance, at (202) 295-1518 or leej@lsc.gov.

SUPPLEMENTARY INFORMATION: Under LSC's Notice of Funds Available published on March 15, 2021 (86 FR 14344) and LSC's grant application process beginning on May 3, 2021, LSC intends to award funds to organizations that provide civil legal services in the indicated service areas. Applicants for each service area are listed below. The grant award amounts below are estimates based on the FY2021 grant awards to each service area. The funding estimates may change based on the final FY2022 appropriation. In addition, Agricultural Worker service area population estimates are subject to change based on Department of Labor review and comments LSC receives during the 30-day comment period.

LSC will post all updates and changes to this notice at https://www.lsc.gov/grants/basic-field-grant/basic-field-awards. Interested parties are asked to visit https://www.lsc.gov/grants/basic-field-grant regularly for updates on the LSC grants process.

Name of applicant organization | State | Service area | Estimated annualized 2022 funding
Alaska Legal Services Corporation | AK | AK-1 | $988,604
Alaska Legal Services Corporation | AK | NAK-1 | 672,243
Legal Services Alabama, Inc | AL | AL-4 | 7,043,648
Legal Aid of Arkansas, Inc | AR | AR-6 | 1,749,877
Center for Arkansas Legal Services | AR | AR-7 | 2,622,075
American Samoa Legal Aid | AS | AS-1 | 319,432
DNA-Peoples Legal Services, Inc | AZ | AZ-2 | 531,382
Community Legal Services, Inc | AZ | AZ-3 | 6,191,200
Southern Arizona Legal Aid, Inc | AZ | AZ-5 | 2,483,867
Community Legal Services, Inc | AZ | MAZ | 418,446
DNA-Peoples Legal Services, Inc | AZ | NAZ-5 | 3,243,604
Southern Arizona Legal Aid, Inc | AZ | NAZ-6 | 792,319
California Indian Legal Services, Inc | CA | CA-1 | 35,855
Inland Counties Legal Services, Inc | CA | CA-12 | 5,078,679
Legal Aid Society of San Diego, Inc | CA | CA-14 | 3,049,856
Community Legal Aid SoCal | CA | CA-19 | 3,813,965
Greater Bakersfield Legal Assistance, Inc | CA | CA-2 | 1,329,802
Central California Legal Services | CA | CA-26 | 3,319,023
Legal Services of Northern California, Inc | CA | CA-27 | 4,294,610
Bay Area Legal Aid | CA | CA-28 | 4,534,544
Legal Aid Foundation of Los Angeles | CA | CA-29 | 6,537,332
Neighborhood Legal Services of Los Angeles County | CA | CA-30 | 4,426,887
California Rural Legal Assistance, Inc | CA | CA-31 | 5,170,213
California Rural Legal Assistance, Inc | CA | MCA | 4,129,707
California Indian Legal Services, Inc | CA | NCA-1 | 1,098,192
Colorado Legal Services | CO | CO-6 | 5,009,557
Colorado Legal Services | CO | MCO | 282,481
Colorado Legal Services | CO | NCO-1 | 119,375
Statewide Legal Services of Connecticut, Inc | CT | CT-1 | 3,417,826
Pine Tree Legal Assistance, Inc | CT | NCT-1 | 19,461
Neighborhood Legal Services Program of the District of Columbia | DC | DC-1 | 909,170
Legal Services Corporation of Delaware, Inc | DE | DE-1 | 1,038,696
Maryland Legal Aid | DE | MDE | 29,643
Legal Services of North Florida, Inc | FL | FL-13 | 2,013,108
Three Rivers Legal Services, Inc | FL | FL-14 | 2,614,378
Community Legal Services of Mid-Florida, Inc | FL | FL-15 | 5,519,211
Bay Area Legal Services, Inc | FL | FL-16 | 4,284,672
Florida Rural Legal Services, Inc | FL | FL-17 | 4,662,878
Coast to Coast Legal Aid of South Florida, Inc | FL | FL-18 | 2,633,141
Legal Services of Greater Miami, Inc | FL | FL-5 | 4,111,204
Florida Rural Legal Services, Inc | FL | MFL | 921,607
Atlanta Legal Aid Society, Inc | GA | GA-1 | 4,041,147
Georgia Legal Services Program | GA | GA-2 | 9,120,494
Georgia Legal Services Program | GA | MGA | 635,435
Micronesian Legal Services Corporation | GU | GU-1 | 359,993
Legal Aid Society of Hawaii | HI | HI-1 | 1,488,123
Legal Aid Society of Hawaii | HI | NHI-1 | 284,737
Iowa Legal Aid | IA | IA-3 | 3,162,859
Iowa Legal Aid | IA | MIA | 267,706
Idaho Legal Aid Services, Inc | ID | ID-1 | 1,579,021
Idaho Legal Aid Services, Inc | ID | MID | 389,099
Idaho Legal Aid Services, Inc | ID | NID-1 | 80,756
Land of Lincoln Legal Aid, Inc | IL | IL-3 | 3,066,885
Legal Aid Chicago | IL | IL-6 | 6,490,201
Prairie State Legal Services, Inc | IL | IL-7 | 4,458,815
Legal Aid Chicago | IL | MIL | 249,444
Indiana Legal Services, Inc | IN | IN-5 | 7,614,406
Indiana Legal Services, Inc | IN | MIN | 176,583
Kansas Legal Services, Inc | KS | KS-1 | 3,245,538
Legal Aid of the Bluegrass | KY | KY-10 | 1,775,914
Legal Aid Society | KY | KY-2 | 1,540,306
Appalachian Research and Defense Fund of Kentucky | KY | KY-5 | 1,926,311
Kentucky Legal Aid | KY | KY-9 | 1,547,495
Southeast Louisiana Legal Services Corporation | LA | LA-13 | 3,977,231
Acadiana Legal Service Corporation | LA | LA-15 | 4,332,826
Community Legal Aid, Inc | MA | MA-10 | 1,701,972
Volunteer Lawyers Project of the Boston Bar Association | MA | MA-11 | 2,439,092
South Coastal Counties Legal Services | MA | MA-12 | 1,139,906
Northeast Legal Aid, Inc | MA | MA-4 | 927,104
Maryland Legal Aid | MD | MD-1 | 5,212,623
Maryland Legal Aid | MD | MMD | 132,236
Pine Tree Legal Assistance, Inc | ME | ME-1 | 1,328,595
Pine Tree Legal Assistance, Inc | ME | MMX-1 | 336,418
Pine Tree Legal Assistance, Inc | ME | NME-1 | 80,118
Michigan Advocacy Program | MI | MI-12 | 1,983,548
Lakeshore Legal Aid | MI | MI-13 | 4,845,857
Legal Services of Eastern Michigan | MI | MI-14 | 1,881,251
Legal Aid of Western Michigan | MI | MI-15 | 2,505,773
Legal Services of Northern Michigan, Inc | MI | MI-9 | 899,382
Michigan Advocacy Program | MI | MMI | 628,341
Michigan Indian Legal Services, Inc | MI | NMI-1 | 204,622
Southern Minnesota Regional Legal Services, Inc | MN | MMN | 481,867
Legal Aid Service of Northeastern Minnesota | MN | MN-1 | 478,750
Legal Services of Northwest Minnesota Corporation | MN | MN-4 | 404,936
Southern Minnesota Regional Legal Services, Inc | MN | MN-5 | 1,749,508
Central Minnesota Legal Services, Inc | MN | MN-6 | 1,852,613
Anishinabe Legal Services, Inc | MN | NMN-1 | 297,058
Legal Aid of Western Missouri | MO | MMO | 184,272
Legal Aid of Western Missouri | MO | MO-3 | 2,483,427
Legal Services of Eastern Missouri, Inc | MO | MO-4 | 2,206,494
Mid-Missouri Legal Services Corporation | MO | MO-5 | 619,693
Legal Services of Southern Missouri | MO | MO-7 | 2,240,364
Micronesian Legal Services Corporation | MP | MP-1 | 1,805,376
Mississippi Center for Legal Services | MS | MS-10 | 3,245,910
North Mississippi Rural Legal Services, Inc | MS | MS-9 | 2,083,786
Mississippi Center for Legal Services | MS | NMS-1 | 103,326
Montana Legal Services Association | MT | MMT | 158,178
Montana Legal Services Association | MT | MT-1 | 1,166,187
Montana Legal Services Association | MT | NMT-1 | 197,922
Legal Aid of North Carolina, Inc | NC | MNC | 715,604
Legal Aid of North Carolina, Inc | NC | NC-5 | 13,204,088
Legal Aid of North Carolina, Inc | NC | NNC-1 | 271,283
Southern Minnesota Regional Legal Services, Inc | ND | MND | 124,781
Legal Services of North Dakota | ND | ND-3 | 659,616
Legal Services of North Dakota | ND | NND-3 | 334,836
Legal Aid of Nebraska | NE | MNE | 213,558
Legal Aid of Nebraska | NE | NE-4 | 1,651,880
Legal Aid of Nebraska | NE | NNE-1 | 41,088
603 Legal Aid | NH | NH-1 | 929,520
South Jersey Legal Services, Inc | NJ | MNJ | 157,627
Legal Services of Northwest Jersey, Inc | NJ | NJ-15 | 623,172
Central Jersey Legal Services, Inc | NJ | NJ-17 | 1,623,397
Northeast New Jersey Legal Services Corporation | NJ | NJ-18 | 2,061,143
South Jersey Legal Services, Inc | NJ | NJ-20 | 2,482,498
Essex-Newark Legal Services Project, Inc | NJ | NJ-8 | 1,068,449
New Mexico Legal Aid | NM | MNM | 185,850
DNA-Peoples Legal Services, Inc | NM | NM-1 | 247,673
New Mexico Legal Aid | NM | NM-5 | 3,314,527
DNA-Peoples Legal Services, Inc | NM | NNM-2 | 28,241
New Mexico Legal Aid | NM | NNM-4 | 577,556
Nevada Legal Services, Inc | NV | NNV-1 | 165,289
Nevada Legal Services, Inc | NV | NV-1 | 3,811,667
Legal Aid Society of Mid-New York, Inc | NY | MNY | 333,772
Legal Services of the Hudson Valley | NY | NY-20 | 2,217,165
Legal Aid Society of Northeastern New York, Inc | NY | NY-21 | 1,724,049
Legal Aid Society of Mid-New York, Inc | NY | NY-22 | 2,156,089
Legal Assistance of Western New York, Inc | NY | NY-23 | 2,133,155
Neighborhood Legal Services, Inc | NY | NY-24 | 1,570,542
Nassau/Suffolk Law Services Committee, Inc | NY | NY-7 | 1,641,227
Legal Services NYC | NY | NY-9 | 12,998,155
Legal Aid of Western Ohio, Inc | OH | MOH | 217,268
Legal Aid Society of Greater Cincinnati | OH | OH-18 | 2,041,668
Community Legal Aid Services, Inc | OH | OH-20 | 2,434,880
The Legal Aid Society of Cleveland | OH | OH-21 | 2,789,400
Legal Aid of Western Ohio, Inc | OH | OH-23 | 3,410,218
Ohio State Legal Services | OH | OH-24 | 4,017,874
Legal Aid Services of Oklahoma, Inc | OK | MOK | 296,145
Oklahoma Indian Legal Services, Inc | OK | NOK-1 | 1,017,770
Legal Aid Services of Oklahoma, Inc | OK | OK-3 | 5,558,758
Legal Aid Services of Oregon | OR | MOR | 565,177
Legal Aid Services of Oregon | OR | NOR-1 | 229,462
Legal Aid Services of Oregon | OR | OR-6 | 4,161,133
Philadelphia Legal Assistance Center | PA | MPA | 425,150
Philadelphia Legal Assistance Center | PA | PA-1 | 3,502,766
Southwestern Pennsylvania Legal Services, Inc | PA | PA-11 | 527,937
Legal Aid of Southeastern Pennsylvania | PA | PA-23 | 1,629,668
North Penn Legal Services, Inc | PA | PA-24 | 2,439,623
MidPenn Legal Services, Inc | PA | PA-25 | 3,058,932
Northwestern Legal Services | PA | PA-26 | 875,277
Laurel Legal Services, Inc | PA | PA-5 | 828,493
Neighborhood Legal Services Association | PA | PA-8 | 1,668,402
Puerto Rico Legal Services, Inc | PR | MPR | 64,069
Puerto Rico Legal Services, Inc | PR | PR-1 | 13,447,567
Community Law Office, Inc | PR | PR-2 | 314,564
Rhode Island Legal Services, Inc | RI | RI-1 | 1,099,457
South Carolina Legal Services, Inc | SC | MSC | 285,850
South Carolina Legal Services, Inc | SC | SC-8 | 6,670,833
Dakota Plains Legal Services, Inc | SD | NSD-1 | 1,160,609
East River Legal Services | SD | SD-2 | 482,578
Dakota Plains Legal Services, Inc | SD | SD-4 | 541,174
Legal Aid Society of Middle Tennessee and the Cumberlands | TN | TN-10 | 3,630,964
Memphis Area Legal Services, Inc | TN | TN-4 | 1,631,652
West Tennessee Legal Services, Inc | TN | TN-7 | 774,923
Legal Aid of East Tennessee | TN | TN-9 | 2,991,648
Texas RioGrande Legal Aid, Inc | TX | MSX-2 | 2,983,235
Texas RioGrande Legal Aid, Inc | TX | NTX-1 | 38,904
Lone Star Legal Aid | TX | TX-13 | 13,950,655
Legal Aid of NorthWest Texas | TX | TX-14 | 10,655,452
Texas RioGrande Legal Aid, Inc | TX | TX-15 | 13,146,377
Utah Legal Services, Inc | UT | MUT | 110,742
Utah Legal Services, Inc | UT | NUT-1 | 102,263
Utah Legal Services, Inc | UT | UT-1 | 2,713,928
Central Virginia Legal Aid Society, Inc | VA | MVA | 320,155
Southwest Virginia Legal Aid Society, Inc | VA | VA-15 | 974,623
Legal Aid Society of Eastern Virginia | VA | VA-16 | 1,650,677
Virginia Legal Aid Society, Inc | VA | VA-17 | 943,058
Central Virginia Legal Aid Society, Inc | VA | VA-18 | 1,437,875
Blue Ridge Legal Services, Inc | VA | VA-19 | 958,213
Legal Services of Northern Virginia, Inc | VA | VA-20 | 1,977,868
Legal Services of the Virgin Islands, Inc | VI | VI-1 | 237,227
Legal Services Vermont | VT | VT-1 | 554,061
Northwest Justice Project | WA | MWA | 1,027,455
Northwest Justice Project | WA | NWA-1 | 354,095
Northwest Justice Project | WA | WA-1 | 6,305,760
Legal Action of Wisconsin, Inc | WI | MWI | 484,838
Wisconsin Judicare, Inc | WI | NWI-1 | 192,819
Wisconsin Judicare, Inc | WI | WI-2 | 1,119,796
Legal Action of Wisconsin, Inc | WI | WI-5 | 4,335,175
Legal Aid of West Virginia, Inc | WV | WV-5 | 2,799,112
Legal Aid of Wyoming, Inc | WY | NWY-1 | 214,798
Legal Aid of Wyoming, Inc | WY | WY-4 | 571,853

These grants will be awarded under the authority conferred on LSC by section 1006(a)(1) of the Legal Services Corporation Act, 42 U.S.C. 2996e(a)(l). Grant awards are made to ensure civil legal services are provided in every service area, although no listed organization is guaranteed a grant award. Grants will become effective, and grant funds will be distributed, on or about January 1, 2022.

LSC issues this notice pursuant to 42 U.S.C. 2996f(f). Comments and recommendations concerning potential grantees are invited and should be delivered to LSC within 30 days from the date of publication of this notice.

Dated: November 3, 2021.
Mark Freedman,
Senior Associate General Counsel.

[FR Doc. 2021-24383 Filed 11-5-21; 8:45 am]

BILLING CODE 7050-01-P